DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning information required by FEMA to amend or revise National Flood Insurance Program Maps to remove certain property from the 1-percent annual chance floodplain.

SUPPLEMENTARY INFORMATION: With the passage of the Flood Disaster Protection Act of 1973, an owner of a structure, with a federally backed mortgage, located in the 1-percent annual chance floodplain, was required to purchase federal flood insurance. This was in response to the escalating damage caused by flooding and the unavailability of flood insurance from commercial insurance companies. As part of this effort, FEMA mapped the 1-percent annual chance floodplain in communities. However, due to scale limitations, individual structures that may be above the base flood cannot always be shown as being out of the 1-percent annual chance floodplain. FEMA will issue a Letter of Map Amendment (LOMA) to waive the Federal requirement for flood insurance when data is submitted to show that the property or structure is at or above the elevation of the base flood.

Collection of Information

Title: Application Form for Single Residential Lot or Structure Amendments to National Flood Insurance Program Maps.

Type of Information Collection: Revision of a currently approved collection.

OMB Number: 1660-0037.

Form Numbers: FEMA Forms 81-92 and 81-92A.

Abstract: FEMA Form 81-92 is designed to assist requesters in gathering information that FEMA needs to determine whether a certain single-lot property or structure is likely to be flooded during a flood event that has a one-percent annual chance of being equaled or exceeded in any given year (base flood). FEMA Form 81-92A is a Spanish version of FEMA Form 81-92 and, as such, only one of the two forms would be required for any one application.

Affected Public: Individuals or household (homeowners) and business or other for profit.

Estimated: Total Annual Burden Hours: 31,680.

Data collection activity/instrument | Number of respondents | Frequency of responses | Hour burden per response | Annual responses | Total annual hour burden
| (A) | (B) | (C) | (D)=(A×B) | (E)=(C×D)
Form 81-92:
Homeowners | 11,550 | 1 | 1.2 | 11,550 | 13,860
Engineers, Surveyors | 11,550 | 1 | 1.2 | 11,550 | 13,860
Form 81-92A(Spanish Version):
Homeowners | 1,650 | 1 | 1.2 | 1,650 | 1,980
Engineers, Surveyors | 1,650 | 1 | 1.2 | 1,650 | 1,980
Total | 26,400 |  |  | 26,400 | 31,680

Estimated Cost: Cost to respondents is estimated to be $619,835 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 19, 2007.

Addresses: Interested persons should submit written comments to Chief, Records Management and Privacy, Information Resources Management Branch, Information Technology Services Division, Federal Emergency Management Agency, 500 C Street, SW., Room 609, Washington, DC 20472.

FOR FURTHER INFORMATION CONTACT: Contact Cecelia Lynch, FEMA, Federal Insurance and Mitigation Administration at (202) 646-7045 for additional information. You may contact the Records Management Branch for copies of the proposed collection of information at facsimile number (202) 646-3347 or e-mail address: FEMA-Information-Collections@dhs.gov.

Dated: April 10, 2007.
John A. Sharetts-Sullivan,
Chief, Records Management and Privacy Information Resources Management Branch, Information Technology Services Division, Federal Emergency Management Agency, Department of Homeland Security.

[FR Doc. E7-7581 Filed 4-19-07; 8:45 am]

BILLING CODE 9110-11-P